DEPARTMENT OF THE INTERIOR

Fish and Wildlife Service

50 CFR Part 17

[Docket Nos. FWS-R4-ES-2011-0043; FWS-R2-ES-2013-0001; FWS-R4-ES-2013-0026; 4500030113]

RINs 1018-AX83; 1018-AZ24; 1018-AZ48

Endangered and Threatened Wildlife and Plants; Corrections to Rules Adding Species to the List of Endangered Wildlife

AGENCY: Fish and Wildlife Service, Interior.

ACTION: Final rules; corrections.

SUMMARY: We, the U.S. Fish and Wildlife Service, published final rules in the Federal Register on April 6, 2012, August 20, 2013, and September 26, 2013, revising our List of Endangered and Threatened Wildlife. Inadvertently, we made some errors in our amendatory instructions. With this technical correction, we correct those errors.

DATES: Effective January 14, 2014.

FOR FURTHER INFORMATION CONTACT: Susan Wilkinson, (703) 358-2506.

SUPPLEMENTARY INFORMATION: The Office of the Federal Register (OFR) has made us aware that one rule that published in 2012 and two rules that published in 2013 to revise the List of Endangered and Threatened Wildlife (List) in title 50 of the Code of Federal Regulations (CFR) at 50 CFR part 17 contained amendatory instructions that could not be followed. This document corrects these administrative errors, which in turn corrects errors in the List in § 17.11(h).

Final Rule of April 6, 2012 (77 FR 20948)

In a rule that published April 6, 2012, “Listing of the Miami Blue Butterfly as Endangered Throughout Its Range; Listing of the Cassius Blue, Ceraunus Blue, and Nickerbean Blue Butterflies as Threatened Due to Similarity of Appearance to the Miami Blue Butterfly in Coastal South and Central Florida” (77 FR 20948), the second amendatory instruction at 77 FR 20986 directed OFR to amend § 17.11(h) by adding entries for four species to the List. For three of the species, the instruction was to include these words in the Status column of the List: “T(S/A) (coastal south and central FL).” However, the configuration of the table as presented in the CFR does not provide sufficient space in that column to accommodate an addition of that length (i.e., most entries in the Status column consist of just a single letter, with the longest entries containing only three letters and punctuation). Therefore, we are correcting this instruction as set forth in the rule portion of this document and the rule text so that the Status column will contain only “T(S/A)” and the words “Coastal south and central FL” will be added to the preceding column in the List (“Vertebrate population where endangered or threatened”) for the three species. Although these three species are invertebrates, the only place in the table to identify where they are listed is in the column “Vertebrate population where endangered or threatened.” This change does not affect the status of these species under the Endangered Species Act of 1973, as amended (16 U.S.C 1531 et seq.).

Final Rule of August 20, 2013 (78 FR 51328)

In a rule of August 20, 2013, “Designation of Critical Habitat for the Austin Blind and Jollyville Plateau Salamanders” (78 FR 51328), the second amendatory instruction at 78 FR 51362 directed OFR to amend § 17.11(h) by adding entries for “Salamander, Georgetown” and “Salamander, Salado”. However, the entries set forth following this instruction were for the Austin blind and Jollyville Plateau salamanders. The instruction was erroneous; the table entries were correct. These same two species, the Austin blind salamander and the Jollyville Plateau salamander, were added to the List in § 17.11(h) as the result of a final rule that also published August 20, 2013, “Determination of Endangered Species Status for the Austin Blind Salamander and Threatened Species Status for the Jollyville Plateau Salamander Throughout Their Ranges” (78 FR 51278). Accordingly, we are removing the second amendatory instruction for this final rule and the accompanying rule text as the instruction was erroneous and is unnecessary.

Final Rule of September 26, 2013 (78 FR 59556)

In a rule of September 26, 2013, “Designation of Critical Habitat for the Fluted Kidneyshell and Slabside Pearlymussel” (78 FR 59556), the second amendatory instruction at 78 FR 59584 directed OFR to amend § 17.11(h) by adding entries for “Kidneyshell, fluted” and “Pearlymussel, slabside”. However, the species were added to the List in another final rule that published the same day, “Endangered Species Status for the Fluted Kidneyshell and Slabside Pearlymussel” (78 FR 59269; September 26, 2013). Because the species were added to the List by the rule that published at 78 FR 59269, they could not be added to the List again by another rule. Therefore, we are removing amendatory instruction number 2 from the rule at 78 FR 59556 and the accompanying rule text as the instruction is unnecessary and cannot be performed.

Corrections

Accordingly, the following corrections are made to FR Doc. 2013-19713, 2013-23357, and 2012-8088 as follows:

PART 17—[AMENDED]

1. In FR Doc. 2013-19713 appearing in the Federal Register of Tuesday, August 20, 2013, on page 51362, in the third column, the second amendatory instruction and the accompanying table are removed.

2. In FR Doc. 2013-23357 appearing in the Federal Register of Thursday, September 26, 2013, on page 59584 in the third column, the second amendatory instruction and the accompanying table are removed.

3. In FR Doc. 2012-8088 appearing in the Federal Register of Friday, April 6, 2012, on page 20986 in the third column, the second amendatory instruction and the table that follows it are revised to read as follows:

2. Amend § 17.11(h) by adding new entries for the following, in alphabetical order under Insects, to the List of Endangered and Threatened Wildlife:

§17.11 Endangered and threatened wildlife.

* * * * *

Species: Common name | Species: Scientific name | Historic range | Vertebrate population where endangered or threatened | Status | When listed | Critical habitat | Special rules
* * * * * * *
Insects
* * * * * * *
Butterfly, cassius blue | Leptotes cassius theonus | U.S.A. (FL), Bahamas, Greater Antilles, Cayman Islands | Coastal south and central FL | T (S/A) | 801 | NA | 17.47(a)
Butterfly, ceraunus blue | Hemiargus ceraunus antibubastus | U.S.A. (FL), Bahamas | Coastal south and central FL | T (S/A) | 801 | NA | 17.47 (a)
* * * * * * *
Butterfly, nickerbean blue | Cyclargus ammon | U.S.A. (FL), Bahamas, Cuba | Coastal south and central FL | T(S/A) | 801 | NA | 17.47 (a)
* * * * * * *

Dated: January 9, 2014.
Tina A. Campbell,
Chief, Division of Policy and Directives Management, U.S. Fish and Wildlife Service.

[FR Doc. 2014-00504 Filed 1-13-14; 8:45 am]

BILLING CODE 4310-55-P